BUREAU OF CONSUMER FINANCIAL PROTECTION

[Docket No. CFPB-2015-0001]

Request for Information Regarding an Initiative on Safe Student Banking

AGENCY: Bureau of Consumer Financial Protection.

ACTION: Notice and request for information; extension of comment period.

SUMMARY: On January 27, 2015, the Consumer Financial Protection Bureau (Bureau or CFPB) published in the Federal Register a request for information seeking feedback on a draft Safe Student Account Scorecard that offers information to colleges and universities when soliciting agreements from financial institutions to market safe and affordable financial accounts for their students. The Bureau seeks comment from the public, including student and parent consumers, institutions of higher education, and financial institutions. To allow interested persons additional time to consider and submit their responses, the Bureau has determined that an extension of the comment period until March 30, 2015, is appropriate.

DATES: The comment period for the Request for Information Regarding an Initiative on Safe Student Banking published January 27, 2015 at 80 FR 4255 is extended. Responses must now be received on or before March, 30, 2015.

ADDRESSES: You may submit comments, identified by Docket No. CFPB-2015-0001, by any of the following methods:

• Federal eRulemaking Portal: http://www.regulations.gov. Follow the instructions for submitting comments.

• Email: FederalRegisterComments@cfpb.gov. Include Docket No. CFPB-2015-0001 in the subject line of the message.

• Mail: Monica Jackson, Office of the Executive Secretary, Consumer Financial Protection Bureau, 1700 G Street NW., Washington, DC 20552.

• Hand Delivery/Courier: Monica Jackson, Office of the Executive Secretary, Consumer Financial Protection Bureau, 1275 First Street NE., Washington, DC 20002.

Instructions: All submissions should include the agency name and docket number for this proposal. Because paper mail in the Washington, DC area and at the Bureau is subject to delay, commenters are encouraged to submit comments electronically. In general, all comments received will be posted without change to http://www.regulations.gov. In addition, comments will be available for public inspection and copying at 1275 First Street NE., Washington, DC 20002, on official business days between the hours of 10 a.m. and 5 p.m. Eastern Time. You can make an appointment to inspect the documents by telephoning (202) 435-7275.

All comments, including attachments and other supporting materials, will become part of the public record and subject to public disclosure. Sensitive personal information, such as account numbers or social security numbers, should not be included. Comments generally will not be edited to remove any identifying or contact information.

FOR FURTHER INFORMATION CONTACT: For general inquiries, submission process questions or any additional information, please contact Monica Jackson, Office of the Executive Secretary, at 202-435-7275.

SUPPLEMENTARY INFORMATION: On January 14, 2015, the Bureau issued a Request for Information Regarding an Initiative on Safe Student Banking. The information request was published in the Federal Register on January 27, 2015. The Bureau is seeking feedback on a draft Safe Student Account Scorecard that offers information to colleges and universities when soliciting agreements from financial institutions to market safe and affordable financial accounts to their students. To allow interested persons additional time to consider and submit their responses, the Bureau has determined that an extension is appropriate. The comment period therefore will now close on March 30, 2015.

Authority: 12 U.S.C. 5511(c).

Dated: February 9, 2015.
Christopher D'Angelo,
Chief of Staff, Bureau of Consumer Financial Protection.

[FR Doc. 2015-02982 Filed 2-12-15; 8:45 am]

BILLING CODE 4810-AM-P